DEPARTMENT OF HEALTH AND HUMAN SERVICES

Centers for Disease Control and Prevention

Board of Scientific Counselors, National Center for Health Statistics; Cancellation of Meeting

AGENCY: Centers for Disease Control and Prevention (CDC), Department of Health and Human Services (HHS).

ACTION: Notice.

SUPPLEMENTARY INFORMATION: Notice is hereby given of a change in the meeting of the Board of Scientific Counselors, National Center for Health Statistics (BSC, NCHS); February 15, 2023, from 11 a.m. to 4:30 p.m., EST, in the original Federal Register notice.

The virtual meeting was published in the Federal Register on January 11, 2023, Volume 88, Number 7, pages 1582-1583.

This meeting is being canceled in its entirety.

FOR FURTHER INFORMATION CONTACT: Rebecca Hines, M.H.S., Designated Federal Officer, Board of Scientific Counselors, National Center for Health Statistics, 3311 Toledo Road, Mailstop P-08, Hyattsville, Maryland 20782; Telephone: (301) 458-4715; Email: RSHines@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-02966 Filed 2-10-23; 8:45 am]

BILLING CODE 4163-18-P